DEPARTMENT OF COMMERCE

Submission for OMB Review; Comment Request

The Department of Commerce will submit to the Office of Management and Budget (OMB) for clearance the following proposal for collection of information under the provisions of the Paperwork Reduction Act of 1995.

Agency: U.S. Census Bureau.

Title: Information and Communication Technology Survey.

OMB Control Number: 0607-0909.

Form Number(s): ICT-1(S), ICT-1(M), ICT-1(L).

Type of Request: Extension of a currently approved collection.

Burden Hours: 79,286.

Number of Respondents: 45,000.

Average Hours per Response: 1.76 hours.

Needs and Uses: Economic policymakers are concerned about the lack of available data related to e-business infrastructure investment. Such data are critical for evaluating productivity growth, changes in industrial capacity, and current economic developments. Rapid advances in Information and Communication Technology (ICT) equipment have resulted in these assets having short useful lives and being replaced faster than other types of equipment. Companies are expensing the full cost of such assets during the current annual period rather than capitalizing the value of such assets and expensing the cost over two or more years. In some cases this is due not only to the short useful life of the asset, but also to the fact that companies have varying dollar levels for capitalization.

The Annual Capital Expenditures Survey (ACES) (OMB Project 0607-0782) currently collects summary data on business capital expenditures annually and detailed data on types of structures and equipment every five years. The fact that the ACES program does not include non-capitalized expenditures for e-business infrastructure and infrequently collects detailed data on types of structures and equipment creates serious data gaps. To fill these gaps and as a supplement to the ACES survey, the Census Bureau created the Information and Communication Technology Survey (ICTS). The ICTS uses the ACES sampling, follow-up and estimation methodologies including mailing to the same employer companies.

Data users tell us that they need comprehensive and consistent data on investment by all private non-farm businesses in capitalized and non-capitalized ICT equipment and software. The objectives of the ICTS are:

(a) To provide estimates of capitalized and non-capitalized ICT equipment expenditures for all private non-farm sectors of the economy at 3-digit and selected 4-digit North American Industry Classification System (NAICS) levels;

(b) to base the survey on a probability sample that yields measures of statistical reliability of the survey estimates;

(c) to produce annual enterprise-level data with the level of detail, coverage, and quality which was previously unavailable;

(d) to provide detailed data on capitalized and non-capitalized ICT expenditures for estimating the national income and product accounts, estimating the productivity of U.S. industries, evaluating fiscal and monetary policy, and conducting research using capitalized and non-capitalized expenditures data; and

(e) to provide industry analysts with necessary data for market analysis, economic forecasting, product development, and business planning.

This request is for continuation of a currently approved collection and will cover the 2013 through 2015 ICTS (conducted in fiscal years 2014 through 2016). Due to budgetary constraints in 2013, the Census Bureau suspended the 2012 ICTS. However, funds were appropriated for fiscal year 2014 allowing the Census Bureau to reinstate the ICTS for the 2013 survey year.

We will collect and publish data based on the 2012 NAICS. Industries in the survey will comprise 3-digit and selected 4-digit 2012 NAICS codes.

The annual ICTS collects data on two categories of non-capitalized expenses (purchases; and operating leases and rental payments), for four types of information and communication technology equipment and software (computers and peripheral equipment; ICT equipment, excluding computers and peripherals; electromedical and electrotherapeutic apparatus; and computer software, including payroll associated with software development). The survey also collects capital expenditures data on the four types of ICT equipment and software cited above.

In prior ICTS data collection, the Census Bureau used mail out/mail back survey forms to collect data. Employer companies were able to respond via Centurion (the Census Bureau's online reporting system), by mail, or by using our toll-free number to reply via secure facsimile machine. We asked companies to respond to the survey within 30 days of the initial mailing. If companies did not respond by the designated time, they received letters and/or telephone calls encouraging participation.

For the 2013 ICTS data collection, the Census Bureau will rely primarily on electronic reporting. Employer companies will receive a mailed notification letter containing their User ID and password, and directed to respond via Centurion through the Census Bureau's Business Help Site. The online reporting instrument is an electronic version of the paper data collection instrument, and based on the company's diversity of operations and number of industries with payroll. Companies operating in only one industry will access an ICT-1(S) form or electronic instrument. These companies will not be asked to report ICT expenditures by industry, this will eliminate the need for industry self coding. Companies operating in more than one, but less than nine industries will access an ICT-1(M) form or electronic instrument. Companies that operate in nine or more industries will access an ICT-1(L) form or electronic instrument. Companies will be able to print the form through online services or request a paper form by mail.

The Census Bureau will continue to ask companies to respond to the survey within 30 days. Reminder letters and/or telephone calls encouraging participation will continue to go to all companies that have not responded by the designated time.

For the 2014 and 2015 ICTS data collection, the Census Bureau will determine whether to use the same data collection strategy based upon the electronic response rate for the 2013 ICTS.

The ICTS is an important part of the Federal Government's effort to improve and supplement ongoing statistical programs. The Bureau of Economic Analysis (BEA), Federal Reserve Board, Bureau of Labor Statistics and industry analysts use these data to evaluate productivity and economic growth prospects. In addition, the ICTS provides improved source data significant to BEA's estimate of the investment component of Gross Domestic Product, capital stock estimates, and capital flow tables. Other Federal agencies, private industry organizations, and academic researchers use the survey results for analyzing and studying past and current economic performance, short-term economic forecasts, productivity, long-term economic growth, tax policy, capacity utilization, business fixed capital stocks and capital formation, international competitiveness and competitiveness and trade policy, market research, and financial analysis.

Affected Public: Business or other for-profit, Not-for-profit institutions.

Frequency: Annually.

Respondent's Obligation: Mandatory.

Legal Authority: The Census Bureau conducts this survey under the authority of Title 13 of the United States Code, Sections 131 and 182. Sections 224 and 225 make the survey mandatory.

This information collection request may be viewed at www.reginfo.gov. Follow the instructions to view Department of Commerce collections currently under review by OMB.

Written comments and recommendations for the proposed information collection should be sent within 30 days of publication of this notice to www.OIRA Submission@omb.eop.gov or fax to (202) 395-5806.

Dated: June 10, 2014.
Glenna Mickelson,
Management Analyst, Office of the Chief Information Officer.

[FR Doc. 2014-13884 Filed 6-13-14; 8:45 am]

BILLING CODE 3510-07-P